DEPARTMENT OF TRANSPORTATION

Federal Aviation Administration

Proposed Revisions to Advisory Circular 25.783-1, Fuselage Doors and Hatches

AGENCY: Federal Aviation Administration (FAA), DOT.

ACTION: Notice of proposed advisory circular and request for comments.

SUMMARY: The Federal Aviation Administration invites public comment on proposed revisions to Advisory Circular, AC 25.783-1, “Fuselage Doors and Hatches.” The revised advisory circular provides guidance for demonstrating compliance with proposed revisions to the design standards for fuselage doors and hatches, published earlier this year. This notice provides interested persons an opportunity to comment on the revised advisory material concurrent with the proposed rule.

DATES: Comments must be received on or before April 14, 2003.

ADDRESSES: You should send your comments to the Federal Aviation Administration, Transport Airplane Directorate, Attention: Jeff Gardlin, Airframe/Cabin Safety Branch, ANM-115, Transport Airplane Directorate, Aircraft Certification Service, 1601 Lind Avenue, SW., Renton, Washington 98055-4056. You may also fax your comments to 425-227-1149, or you may send your comments electronically to: jeff.gardlin@faa.gov. You may review all comments received at the above address between 7:30 a.m. and 4 p.m. weekdays, except Federal holidays.

FOR FURTHER INFORMATION CONTACT: Jeff Gardlin at the above address, telephone 425-227-2136.

SUPPLEMENTARY INFORMATION:

How Do I Obtain a Copy of the Proposed Advisory Circular?

You may obtain an electronic copy of the proposed advisory circular at the following Internet address: http://www.airweb.faa.gov/DraftAC. If you do not have access to the Internet, you may request a copy by contacting Jeff Gardlin at the address or phone number listed earlier in this announcement.

How Do I submit Comments on the Proposed Advisory Circular?

You are invited to comment on the proposed AC by submitting written comments, data, or views. You must identify the AC by title and submit your comments in duplicate to the address specified above. We will consider all comments received on or before the closing date for comments before issuing the final AC.

Discussion

By separate notice publish in the Federal Register (68 FR 1932, January 14, 2003), the FAA proposes to amend the design standards for fuselage doors on transport category airplanes. Currently, most of the relevant standards are found in title 14, Code of Federal Regulations (CFR), § 25.783, “Doors.” The proposed revision would improve door integrity by providing design standards that would ensure that doors remain secure under all circumstances that service experience has shown can occur.

We prepared a proposed revision to AC 25.783-1, “Fuselage Doors and Hatches,” to provide guidance on one means of showing compliance with the proposed revised requirements of § 25.783. The means of compliance described in the proposed AC provides guidance to supplement the engineering and operational judgment that must form the basis fo any compliance findings on the structural and functional safety standards for doors and their operating systems.

Harmonization of Standards and Guidance

The proposed AC is based on recommendations submitted to the FAA by the Aviation Rulemaking Advisory Committee (ARAC). The FAA tasked ARAC (63 FR 50954, September 23, 1998) to provide advice and recommendations on “harmonizing” certain sections of part 25 with the counterpart standards contained in Joint Aviation Requirements (JAR) 25. The goal of “harmonization tasks,” such as this, is to ensure that:

• Where possible, standards and guidance do not require domestic and foreign parties to manufacture or operate to different standards for each country involved; and

• The standards and guidance adopted are mutually acceptable to the FAA and the foreign aviation authorities.

The guidance contained in the proposed AC has been harmonized with that of the JAA, and provides a method of compliance that has been found acceptable to both the FAA and JAA.

The FAA is making the AC available as it was recommended from the Aviation Rulemaking Advisory Committee. However, certain events subsequent to the recommendation being received by the FAA have raised concerns regarding the guidance contained in paragraph 9b(2) with regard to differential pressures under which doors can be opened. Therefore, the FAA specifically invites comments on this aspect of the guidance.

Issuance of the revised AC is contingent on final adoption of the proposed changes to the relevant regulations.

Issued in Renton, Washington, on March 3, 2003.
Ali Bahrami,
Acting Manager, Transport Airplane Directorate, Aircraft Certification Service.

[FR Doc. 03-5932 Filed 3-11-03; 8:45 am]

BILLING CODE 4910-13-M